DEPARTMENT OF COMMERCE

National Oceanic and Atmospheric Administration

JPSS Polar Satellite—Gap Mitigation—Request for Public Comment

AGENCY: National Oceanic and Atmospheric Administration (NOAA), Department of Commerce (DOC).

ACTION: Request for public comment.

SUMMARY: NOAA has long been concerned about the potential for a gap in polar satellite coverage in the afternoon orbit. In addition to reports from Inspector General and the Government Accountability Office on this topic, NOAA has also convened an Independent Review Team (IRT) to review the progress of our satellite programs and identify the challenges ahead. These reports have all substantiated NOAA's concerns regarding the gap.

NOAA is taking positive steps to mitigate the negative impacts to NOAA's numerical weather forecasts that could be introduced by a lack of polar satellite data. To this end, NOAA has commissioned an investigative study to broadly explore all available options, such as substitute satellite observations, alternative non-satellite data, weather modeling, and data assimilation improvements. NOAA is convening teams of internal and external experts, industry leaders, foreign partners, and academia to study each of these areas.

As a part of this effort, and to ensure we examine all potential solutions, NOAA is also seeking comments, suggestions, and innovative ideas from the public on how to preserve the quality and timeliness of NOAA's numerical weather forecasts should we experience a loss of polar satellite environmental data. Through this web portal, the public can submit ideas, review submissions from other parties, and make comments and collaborate on ideas.

DATES: Comments must be received by 5:00 p.m. on December 19, 2012.

ADDRESSES: Additional information as well as instructions on how to submit comments can be found at the following Web site: www.osd.noaa.gov/JPSSGAP For individuals who do not have access to the Internet, comments may be submitted in writing to: NOAA Satellite and Information Service, Advanced Satellite Planning and Technology Office, c/o Mr. David Hermreck, 1335 East-West Highway—6th Floor, Silver Spring, Maryland 20910.

FOR FURTHER INFORMATION CONTACT: Mr. David Hermreck, NOAA Satellite and Information Service, 1335 East-West Highway, 6th Floor, Silver Spring, Maryland 20910. (Phone: 301-713-9801, david.hermreck@noaa.gov).

SUPPLEMENTARY INFORMATION: Proprietary information will not be accepted. All submitted comments will be available for public inspection.

The Independent Review Team report can be found at: http://science.house.gov/noaa-nesdis-independent-review-team-report.

The response from the Acting Secretary of Commerce can be found at: http://science.house.gov/sites/republicans.science.house.gov/files/documents/091812_doc_decision_memo.pdf

The NOAA Administrator's response to the IRT report can be found at: http://www.noaanews.noaa.gov/stories2012/pdfs/UNSEC%20satellite%20oversight%20decision%20memo%20final%20signed%20(2).pdf.

Information on NOAA's Weather mission can be found at http://www.weather.gov/about.

Information on NOAA's satellite programs can be found at: http://www.nesdis.noaa.gov/SatInformation.html.

Charles Baker,
Deputy Assistant Administrator for Satellite and Information Services, National Environmental Satellite Data, and Information Service, National Oceanic and Atmospheric Administration.

[FR Doc. 2012-28190 Filed 11-16-12; 8:45 am]

BILLING CODE 3510-22-P